DEPARTMENT OF JUSTICE

[AAG/A Order No. 012-2007]

Privacy Act of 1974; Removal of a System of Records Notice

Pursuant to the provisions of the Privacy Act of 1974 (5 U.S.C. 552a), the Department of Justice (DOJ) is removing the published notice of a Privacy Act system of records entitled “Master Index File of Names, DAG-005,” last published in the Federal Register on October 21, 1985, at 50 FR 42606.

The “Master Index File of Names” was a system for tracking individuals covered by the following systems of records: Appointed Assistant U.S. Attorneys Personnel System; Assistant U.S. Attorney Applicant Records; Presidential Appointee Candidate Records System; Presidential Appointee Records System; Special Candidates for Presidential Appointments Records System; and U.S. Judges Records System. The “Master Index File of Names” consisted of paper file cards containing individually identifiable information such as: date of birth; date of entry on duty in Federal Service; date of termination of Federal Service; and disposition of the records folder.

The file cards designated as “Master Index File of Names, DAG-005” were destroyed in accordance with National Archives and Records Administration (NARA) guidelines. The underlying records from which the information on these cards was extracted are all covered by other systems of records notices.

Therefore, the notice of “DAG-005, Master Index File of Names” is removed from the Department's listing of Privacy Act systems of records notices, effective on the date of publication of this notice in the Federal Register.

Dated: April 19, 2007.
Lee J. Lofthus,
Assistant Attorney General for Administration.

[FR Doc. E7-8273 Filed 4-30-07; 8:45 am]

BILLING CODE 4410-CG-P